NATIONAL AERONAUTICS AND SPACE ADMINISTRATION

[Notice 05-047]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: March 17, 2005.

FOR FURTHER INFORMATION CONTACT: Jerry L. Seemann, Patent Counsel, Marshall Space Flight Center, Mail Code LS01, Huntsville, AL 35812; telephone (256) 544-6580; fax (256) 544-0258.

NASA Case No. MFS-31789-1: MEMS-Micro-Translation State With Indefinite Linear Travel Capability;

NASA Case No. MFS-31817-1: Short-Range/Long-Range Integrated Target (SLIT) For Video Guidance Sensor Rendezvous And Docking.

Dated: March 10, 2005.
Keith T. Sefton,
Deputy General Counsel, Administration and Management.

[FR Doc. 05-5251 Filed 3-16-05; 8:45 am]

BILLING CODE 7510-13-P